DEPARTMENT OF COMMERCE

Patent and Trademark Office

Agency Information Collection Activities; Submission to the Office of Management and Budget (OMB) for Review and Approval; Comment Request; International Design Applications (Hague Agreement)

AGENCY: United States Patent and Trademark Office, Department of Commerce.

ACTION: Notice of information collection; request for comment.

SUMMARY: The United States Patent and Trademark Office (USPTO), as required by the Paperwork Reduction Act of 1995, invites comments on the extension and revision of an existing information collection: 0651-0075 International Design Applications (Hague Agreement). The purpose of this notice is to allow 60 days for public comment preceding submission of the information collection to OMB.

DATES: To ensure consideration, comments regarding this information collection must be received on or before February 20, 2024.

ADDRESSES: Interested persons are invited to submit written comments by any of the following methods. Do not submit Confidential Business Information or otherwise sensitive or protected information.

• Email: InformationCollection@uspto.gov. Include “0651-0075 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Request for additional information should be directed to Rafael Bacares, Senior Legal Advisor, Office of Patent Legal Administration, United States Patent and Trademark Office, P.O. Box 1450, Alexandria, VA 22313-1450; by telephone at 571-272-3276; or by email at Rafael.Bacares@uspto.gov with “0651-0075 comment” in the subject line. Additional information about this information collection is also available at http://www.reginfo.gov under “Information Collection Review.”

SUPPLEMENTARY INFORMATION:

I. Abstract

The Patent Law Treaties Implementation Act of 2012 ¹ (PLTIA) amends the patent laws to implement the provisions of the Geneva Act of the Hague Agreement Concerning International Registration of Industrial Designs (hereinafter “Hague Agreement”) in title 1, and the Patent Law Treaty ² (PLT) in title 2. The Hague Agreement is an international agreement that enables an applicant to file a single international design application which may have the effect of an application for protection for the design(s) in countries and/or intergovernmental organizations that are Parties to the Hague Agreement (the “Contracting Parties”) designated in the applications. The United States is a Contracting Party to the Hague Agreement, which took effect with respect to the United States on May 13, 2015. The Hague Agreement is administrated by the International Bureau (IB) of the World Intellectual Property Organization (WIPO) located in Geneva, Switzerland.

¹ https://www.congress.gov/112/plaws/publ211/PLAW-112publ211.pdf.

² https://wipolex.wipo.int/en/text/288773.

Under the Hague Agreement, U.S. applicants can file international design applications in English “indirectly” through the United States Patent and Trademark Office (USPTO), which will forward the applications to the IB or “directly” with the IB. An international design application is subject to the payment of three types of fees: (1) a basic fee, (2) a publication fee, and (3) in respect of each Contracting Party where protection is sought, either in a standard or an individual designation fee. All applications are subject to a three-level structure of standard fees, which reflects the level of examination carried out by the Office of a Contracting Party. Also, an additional fee is required where the application contains a description that exceeds 100 words. In addition, a transmittal fee is required for international design applications filed through an office of indirect filing. Thus, international design applications filed through the USPTO as an Office of indirect filing are subject to payment of a transmittal fee for processing and forwarding the international design applications to the IB. The fees required by the IB may be paid either directly to the IB or through the USPTO as an office of indirect filing in the amounts specified on the World Intellectual Property Organization website. If applicants want to pay the required fees through USPTO as an office of indirect filing, the fees must be paid no later than the date of payment of the transmittal fee. The fees will then be forwarded to the IB. The industrial design or designs will be eligible for protection in all the Contracting Parties designated by applicants.

The IB ascertains whether the international design application complies with formal requirements, registers the international design to the international register, and publishes the international registration in the International Designs Bulletin. The international registration contains all of the data of the international application, any reproduction of the international design, date of the international registration, number of the international registration, and the relevant class of the International Classification.

The IB will provide a copy of the publication of the international registration to each Contracting party designated by the application. A designated Contracting Party may perform a substantive examination of the design application. The USPTO will perform a substantive examination for patentability of the international design application, as in the case of regular U.S. design applications.

This information collection covers all the necessary information required for a international design application that is filed through the USPTO as an Office of indirect filing and those filed directly through the IB. The information in this collection is used to register a design patent under the provisions of the Hague Agreement. The majority of the items are WIPO forms managed by the IB, but this information collection also includes two forms maintained by the USPTO.

II. Method of Collection

The items in this information collection can either be submitted electronically through the USPTO patents electronic filing system or mailed to the USPTO.

III. Data

OMB Control Number: 0651-0075.

Forms: WIPO DM = WIPO Dessins et Modeles (design representations); PTOL = Patent Trademark Office Legal

• PTO-1595: (Recordation Form Cover Sheet)

• PTOL-85 Part B (Hague): Fee(s) Transmittal

• WIPO DM/1 (E): Application for International Registration

• WIPO DM/1/I (E): (Annex I: Oath or Declaration of the Creator under Rule 8(1)(a)(ii) of the Common Regulations)

• WIPO DM/1/III (E): (Annex III: Information On Eligibility For Protection under Rule 7(5)(g) and Section 408(d) of the Administrative Instructions)

• WIPO DM/1/IV (E): (Annex IV: Reduction of United States Individual Designation Fee under Section 408(b) of the Administrative Instructions)

• WIPO DM/1/V (E): (Annex V: Supporting Document(s) Concerning Priority Claim under Article 4 of the Paris Convention—Korean Intellectual Property Office (KIPO))

• WIPO DM/7 (E): Appointment of a Representative

Two forms listed above have received OMB approval and clearance through other USPTO information collections. While these forms are used by this information collection, they are routinely approved as part of the other information collections. These forms are:

• PTO-1595—approved through USPTO information collection 0651-0027 (Recording Assignments).

• PTOL-85 Part B (Hague)—approved through USPTO information collection 0651-0033 (Post Allowance and Refiling).

Type of Review: Extension and revision of a currently approved information collection.

Affected Public: Private sector.

Respondent's Obligation: Required to Obtain or Retain Benefits.

Estimated Number of Annual Respondents: 1,231 respondents.

Estimated Number of Annual Responses: 1,231 responses.

Estimated Time per Response: The USPTO estimates that the responses in this information collection will take the public approximately between 15 minutes (0.25 hours) and 6 hours to complete. This includes the time to gather the necessary information, create the document, and submit the completed request to the USPTO.

Estimated Total Annual Respondent Burden Hours: 2,052 hours.

Estimated Total Annual Respondent Hourly Cost Burden: $917,244.

Table 1—Total Burden Hours and Hourly Costs to Private Sector Respondents
Item No. | Item | Estimated annual respondents | Responses per respondent | Estimated annual responses | Estimated time for response (hours) | Estimated burden (hour/year) | Rate ³ ($/hour) | Estimated annual respondent cost burden
|  | (a) | (b) | (a) × (b) = (c) | (d) | (c) × (d) = (e) | (f) | (e) × (f) = (g)
1 | Application for International Registration (WIPO DM/1 (E) and PTO-1595) | 155 | 1 | 155 | 6 | 930 | $447 | $415,710
2 | Claim and Reproductions (Drawings) | 155 | 1 | 155 | 4 | 620 | 447 | 277,140
3 | Transmittal Letter | 5 | 1 | 5 | 2 | 10 | 447 | 4,470
4 | Appointment of a Representative (WIPO DM/7) filed indirectly through the USPTO | 62 | 1 | 62 | 0.25 (15 minutes) | 16 | 447 | 7,152
5 | Petition to Excuse a Failure to Comply with a Time Limit | 3 | 1 | 3 | 4 | 12 | 447 | 5,364
6 | Petition to Convert to a Design Application under 35 U.S.C. Chapter 16 | 3 | 1 | 3 | 4 | 12 | 447 | 5,364
7 | Petition to Review a Filing Date | 3 | 1 | 3 | 4 | 12 | 447 | 5,364
8 | Fee Authorization | 11 | 1 | 11 | 0.25 (15 minutes) | 3 | 447 | 1,341
9 | Petitions to the Commissioner | 5 | 1 | 5 | 4 | 20 | 447 | 8,940
10 | Oath or Declaration of the Creator under Rule 8(1)(a)(ii) of the Common Regulations (WIPO DM/1/I (E)) (Declaration of Inventorship for the Designation of the United States of America) filed indirectly through the USPTO | 31 | 1 | 31 | 0.50 (30 minutes) | 16 | 447 | 7,152
11 | Oath or Declaration of the Creator under Rule 8(1)(a)(ii) of the Common Regulations (WIPO DM/1/I (E)) (Substitute Statement in Lieu of a Declaration of Inventorship for the Designating the United States of America) filed indirectly through the USPTO | 2 | 1 | 2 | 0.50 (30 minutes) | 1 | 447 | 447
12 | Information On Eligibility For Protection (WIPO DM/1/III (E)) filed indirectly through the USPTO | 3 | 1 | 3 | 1 | 3 | 447 | 1,341
13 | Reduction of United States Individual Designation Fee under Section 408(b) of the Administrative Instructions (WIPO DM/1/IV (E)) filed indirectly through the USPTO | 8 | 1 | 8 | 0.50 (30 minutes) | 4 | 447 | 1,788
14 | Supporting Document(s) Concerning Priority Claim under Article 4 of the Paris Convention—Korean Intellectual Property Office (KIPO) (WIPO DM/1/V (E)) filed indirectly through the USPTO | 5 | 1 | 5 | 0.50 (30 minutes) | 3 | 447 | 1,341
15 | Fee(s) Transmittal to USPTO for an International Design Application (PTOL-85 Part B (Hague)) | 780 | 1 | 780 | 0.50 (30 minutes) | 390 | 447 | 174,330
Totals |  | 1,231 |  | 1,231 |  | 2,052 |  | 917,244

Estimated Total Annual Respondent Non-hourly Cost Burden: $3,708,240.

³ 2023 Report of the Economic Survey, published by the Committee on Economics of Legal Practice of the American Intellectual Property Law Association (AIPLA); pg. F-41. The USPTO uses the average billing rate for intellectual property work in all firms which is $447 per hour (https://www.aipla.org/home/news-publications/economic-survey).

There are no capital start-up, maintenance, or record-keeping costs associated with this information collection. However, the USPTO estimates that the total annual (non-hour) cost burden for this collection is $3,708,240, which includes $3,398,121 in filing fees, $310,000 in drawing costs, and $119 in postage costs.

Filing Fees

The filing fees associated with this information collection are listed in the table below.

Table 2—Filing Fees for Private Sector Respondents
Item No. | Fee code | Item | Estimated annual responses | Filing fee ($) | Total non-hour cost burden (yr)
|  |  | (a) | (b) | (a) × (b) = (c)
1 | WIPO | Application for International Registration (electronic)—Average Fee per registration to WIPO (USPTO collects and transmits it to WIPO) | 157 | $2,131 | $334,567
1 | WIPO | Application for International Registration (electronic)—Designation Fee (first part) for the U.S. (collecting for WIPO) (undiscounted entity) | 10 | 960 | 9,600
1 | WIPO | Application for International Registration (electronic)—Designation Fee (first part) for the U.S. (collecting for WIPO) (small entity) | 11 | 480 | 5,280
1 | WIPO | Application for International Registration (electronic)—Designation Fee (first part) for the U.S. (collecting for WIPO) (micro entity) | 6 | 240 | 1,440
1 | WIPO | Application for International Registration submitted to WIPO—Designation Fee (first part) for the U.S. (Transmitting to the USPTO by WIPO) (undiscounted entity) | 1,651 | 960 | 1,584,960
1 | WIPO | Application for International Registration submitted to WIPO—Designation Fee (first part) for the U.S. (Transmitting to the USPTO by WIPO) (small entity) | 527 | 480 | 252,960
1 | WIPO | Application for International Registration submitted to WIPO—Designation Fee (first part) for the U.S. (Transmitting to the USPTO by WIPO) (micro entity) | 138 | 240 | 33,120
1 | 1781 | Application for International Registration (electronic)—Transmittal Fee (set by and collected by USPTO) (undiscounted entity) | 62 | 120 | 7,440
1 | 2781 | Application for International Registration (electronic)—Transmittal Fee (set by and collected by USPTO) (small entity) | 85 | 48 | 4,080
1 | 3781 | Application for International Registration (electronic)—Transmittal Fee (set by and collected by USPTO) (micro entity) | 18 | 24 | 432
5 | 1784 | Petition to Excuse a Failure to Comply with a Time Limit (undiscounted entity) | 1 | 2,100 | 2,100
5 | 2784 | Petition to Excuse a Failure to Comply with a Time Limit (small entity) | 1 | 840 | 840
5 | 3784 | Petition to Excuse a Failure to Comply with a Time Limit (micro entity) | 1 | 420 | 420
6 | 1783 | Petition to Convert to a Design Application under 35 U.S.C. Chapter 16 (undiscounted entity) | 1 | 180 | 180
6 | 2783 | Petition to Convert to a Design Application under 35 U.S.C. Chapter 16 (small entity) | 1 | 72 | 72
6 | 3783 | Petition to Convert to a Design Application under 35 U.S.C. Chapter 16 (micro entity) | 1 | 36 | 36
7 | 1462 | Petition to Review a Filing Date (undiscounted entity) | 1 | 420 | 420
7 | 2462 | Petition to Review a Filing Date (small entity) | 1 | 168 | 168
7 | 3462 | Petition to Review a Filing Date (micro entity) | 1 | 84 | 84
9 | 1462 | Petitions to Commissioner (undiscounted entity) | 1 | 420 | 420
9 | 2462 | Petitions to Commissioner (small entity) | 2 | 168 | 336
9 | 3462 | Petitions to Commissioner (micro entity) | 1 | 84 | 84
15 | 1509 | Issue Fee Transmittal to USPTO for an International Design Application (undiscounted entity) | 972 | 740 | 719,280
15 | 2509 | Issue Fee Transmittal to USPTO for an International Design Application (small entity) | 247 | 296 | 73,112
15 | 3509 | Issue Fee Transmittal to USPTO for an International Design Application (micro entity) | 30 | 148 | 4,440
15 | WIPO | Application for International Registration submitted to WIPO—Issue Fee (Second part) for the U.S. (Transmitting to the USPTO by WIPO) (undiscounted entity) | 420 | 700 | 294,000
15 | WIPO | Application for International Registration submitted to WIPO—Issue Fee (Second part) for the U.S. (Transmitting to the USPTO by WIPO) (small entity) | 155 | 350 | 54,250
15 | WIPO | Application for International Registration submitted to WIPO—Issue Fee (Second part) for the U.S. (Transmitting to the USPTO by WIPO) (micro-entity) | 80 | 175 | 14,000
Totals |  |  | 4,582 |  | $3,398,121

Drawing Costs

The USPTO estimates that the costs to produce design drawings can range from $50 to $350 per sheet. Taking the average of this range, the USPTO estimates that it can cost $200 per sheet to produce design drawings. On average, 10 sheets of drawings are submitted for an application resulting in an average cost of $2,000 to produce the design drawings. The USPTO estimates that 155 respondents will file international design applications. Overall, the costs associated with submitting these drawings are estimated to be $310,000.

Postage Costs

Although the USPTO prefers that the items in this information collection be submitted electronically, responses may be submitted by mail through the United States Postal Service (USPS). The USPTO estimates that 1% of the 1,231 items in this information collection will be submitted by mail, resulting in 12 mailed items. The USPTO estimates that the average postage cost for a mailed submission, using a Priority Mail legal flat rate envelope, will be $9.95. Therefore, the USPTO estimates the total mailing costs for this information collection at $119.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2023-27844 Filed 12-18-23; 8:45 am]

BILLING CODE 3510-16-P